DEPARTMENT OF STATE

[Public Notice 5778]

Biometric Visa Program Transition to Ten Fingerscans

AGENCY: State Department.

ACTION: Notice.

FOR FURTHER INFORMATION CONTACT: Ron Acker, Legislation and Regulations Division, Visa Services, Department of State, Washington, DC 20520-0106, (202) 663-1205 or e-mail ackerrl@state.gov.

SUMMARY: This public notice announces the change in the standard for fingerscans of the Biometric Visa Program from two fingerscans to ten fingerscans. The establishment of the Biometric Visa Program was announced to the public in December 2004 as a response to the requirements established by the Enhanced Border Security and Visa Entry Reform Act of 2002. When the program began, available technology only allowed for efficient capture and comparisons of two fingerscans. Now, improvements in technology allow the Program to incorporate a ten fingerscan standard.

Why is the Department planning to take ten fingerscans from visa applicants?

The Biometric Visa Program works closely with the US-VISIT Program of the Department of Homeland Security (DHS). Both programs currently require aliens to submit two fingerscans as part of their respective application procedures. In consultation with DHS and the Department of Justice, the Department is instituting the ten fingerscan standard to improve our ability to detect and thwart persons ineligible for visas by raising the accuracy rate in matching fingerscans.

Will this change affect all visa applicants?

Visa applicants subject to the Biometric Visa Program will be required to provide ten fingerscans with their first visa application following the transition.

When will this change take place?

The Department plans to begin deployment of the ten fingerscan system to all visa issuing consular posts abroad beginning in April 2007, with completion scheduled for the end of 2007.

Dated: April 2, 2007.
Maura Harty,
Assistant Secretary, Consular Affairs, Department of State.

[FR Doc. E7-8604 Filed 5-3-07; 8:45 am]

BILLING CODE 4710-06-P